DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Transformation Accountability Reporting System—(OMB No. 0930-0285)—Revision

This revised instrument will allow SAMHSA to collect information on two new strategic initiatives—Trauma and Violence and Military Families. The new items will be added to the Transformation Accountability (TRAC) Reporting System is a real-time, performance management system that captures information on mental health services delivered in the United States. A wide range of client and program information is captured through TRAC for approximately 400 grantees.

With the addition of new questions regarding military families, experiences with trauma, and experiences with violence GFA, there is a proposed new data collection instrument up for comment. Approval of this information collection will allow SAMHSA to continue to meet Government Performance and Results Act of 1993 (GPRA) reporting requirements that quantify the effects and accomplishments of its discretionary grant programs which are consistent with OMB guidance.

CMHS has increased the number of questions in the instrument to satisfy reporting needs. The following paragraphs present a description of the changes made to the information collection. These questions will be contained in new sections in the Services tool.

Violence and Trauma—CMHS proposes to add the following 6 items in a new section entitled “Violence and Trauma”.

1. Have you ever experienced violence or trauma in any setting (including community or school violence; domestic violence; physical, psychological, or sexual maltreatment/assault within or outside of the family; natural disaster; terrorism; neglect; or traumatic grief)? No, (skip to next section)

2. Did any of these experiences feel so frightening, horrible, or upsetting that in the past and/or the present that you:

2a. Have had nightmares about it or thought about it when you did not want to?

2b. Tried hard not to think about it or went out of your way to avoid situations that remind you of it?

2c. Were constantly on guard, watchful, or easily startled?

2d. Felt numb and detached from others, activities, or your surroundings?

3. In the past 30 days, how often have you been hit, kicked, slapped, or otherwise physically hurt?

• Experiences With Violence and Trauma—One of SAMHSA's 10 Strategic Initiatives is trauma and violence. In order to capture this information, CMHS is adding six new questions to be asked of respondents. This information will help in SAMHSA's overall goal of reducing the behavioral health impacts of violence and trauma by encouraging substance abuse treatment programs to focus on trauma-informed services.

Military Family and Deployment—CMHS proposes to add the following 6 new items in a new section entitled “Military Family and Deployment”.

1. Have you ever served in the Armed Forces, in the Reserves, or the National Guard [select all that apply]? No, (Skip to #2)

1b. Are you currently on active duty in the Armed Forces, in the Reserves, or the National Guard [select all that apply]?

1c. Have you ever been deployed to a combat zone?

2. Is anyone in your family or someone close to you on active duty in the Armed Forces, in the Reserves, or the National Guard, or separated or retired from Armed Forces, Reserves, or the National Guard? No, (Skip to next section)

3. What is the relationship of that person (Service Member) to you?

3b. Has the Service Member experienced any of the following (check all that apply):

○ Deployed in support of Combat Operations (e.g. Iraq or Afghanistan)

○ Was physically Injured during combat Operations

○ Developed combat stress symptoms/difficulties adjusting following deployment, including PTSD, Depression, or suicidal thoughts

○ Died or was killed

• Veteran Family Status and Areas of Deployment—SAMHSA is also interested in collecting data on active duty and veteran military members. Collection of these data will allow CMHS to identify the number of veterans served, deployment status and location, and family veteran status in conjunction with the types of services they may receive. Identifying a client's veteran status and deployment area allows CMHS and the grantees to monitor these clients and explore whether special services or programs are needed to treat them for substance abuse and other related issues. Identification of veteran status and other military family issues will also allow coordination between SAMHSA and other Federal agencies in order to provide a full range of services to veterans. CMHS will also be able to monitor their outcomes and activities per the NOMS. The total annual burden estimate is shown below:

Estimates of Annualized Hour Burden—CMHS Client Outcome Measures for Discretionary Programs
Type of response | Number of respondents | Responses per respondent | Total responses | Hours per response | Total hour burden | Hourly wage cost | Total hour cost
Client-level baseline interview | 15,681 | 1 | 15,681 | 0.48 | 7,527 | ¹ $15 | $112,905
Client-level 6-month reassessment interview | 10,646 | 1 | 10,646 | 0.367 | 3,907 | 15 | 58,605
Client-level discharge interview ² | 4,508 | 1 | 4,508 | 0.367 | 1,655 | 15 | 24,825
Client-level baseline chart abstraction | 2,352 | 1 | 2,352 | 0.1 | 235 | 15 | 3,525
Client-level reassessment chart abstraction ³ | 9,017 | 1 | 9,017 | 0.1 | 902 | 15 | 13,530
Client-level Subtotal ⁴ | 15,681 |  | 15,681 |  | 14,226 | 15 | 213,390
Infrastructure development, prevention, and mental health promotion quarterly record abstraction | 942 | 4 | 3,768 | 4 | 15,072 | ⁵ 35 | 527,520
Total | 16,623 |  |  |  | 29,298 |  | 740,910
¹ Based on minimum wage.
² Based on an estimate that it will be possible to conduct discharge interviews on 40 percent of those who leave the program.
³ Chart abstraction will be conducted on 100 percent of those discharged.
⁴ This is the maximum additional burden if all consumers complete the baseline and periodic reassessment interviews.
⁵ To be completed by grantee Project Directors, hence the higher hourly wage.

Written comments and recommendations concerning the proposed information collection should be sent by September 29, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Rose Shannon,
Director, Division of Executive Correspondence.

[FR Doc. 2011-22096 Filed 8-29-11; 8:45 am]

BILLING CODE 4162-20-P